NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 23, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Defense Finance and Accounting Service (N1-507-09-1, 1 item, 1 temporary item). Master files of an electronic information system containing data concerning agency employees, contractors, assets, and other information needed for potential disaster response and recovery.

2. Department of the Interior, National Park Service (N1-79-08-5, 4 items, 2 temporary items). Records relating to interpretation and education programs that do not meet the criteria for permanent retention specified in the schedule. Proposed for permanent retention are records that document planning and development of interpretation and education policies, programs and activities, and final work products such as publications, presentations, exhibit scripts, audio-visual materials, studies, lesson plans and curricula.

3. Department of the Interior, National Park Service (N1-79-08-9, 5 items, 4 temporary items). Records relating to management and accountability activities that do not meet the criteria for permanent retention specified in the schedule. Proposed for permanent retention are records that document agency direction including the creation of policy and procedures, documentation of social issues affecting agency services, creation of the annual budget, strategic planning, annual reporting, agency achievements that contribute to its history, first of a kind or precedent-setting activities, and activities that are the subject of widespread media attention or congressional scrutiny.

4. Department of Justice, Office of Legislative Affairs (N1-60-08-26, 3 items, 2 temporary items). Case files relating to officials requiring Senate confirmation whose nominations are withdrawn as well as case files relating to individuals nominated for positions below the level of Assistant Attorney General. Proposed for permanent retention are files relating to individuals nominated for positions at the Assistant Attorney General level and higher.

5. Department of Justice, Bureau of Alcohol, Tobacco, Firearms, and Explosives (N1-436-08-6, 5 items, 3 temporary items). Records of the Office of Chief Counsel consisting of attorney work papers, files relating to routine legal matters, and the case management system. Proposed for permanent retention are files relating to significant legal matters and the Chief Counsel Document System.

6. Department of Justice, Federal Bureau of Investigation (N1-65-07-4, 8 items, 7 temporary items). Training records of the Training and Development Division and individual units throughout the Bureau consisting of recorded exercises, homework exercises, logbooks of completed probationary assignments, dismissal packages, advanced law enforcement training for non-FBI law enforcement officials, and general training records for non-law enforcement training. Proposed for permanent retention are training policy files. Not included in this schedule are records documenting the training curriculum and training program for new and experienced agents.

7. Department of the Navy, Naval Criminal Investigative Service (N1-NU-09-3, 1 item, 1 temporary item). Background investigations on applicants for positions as special agents. These records were previously approved for disposal.

8. Department of State, Bureau of Diplomatic Security (N1-59-08-18, 10 items, 7 temporary items). Records of the Personnel Security/Suitability Division, including the master files of a security clearance database and contractors' payment records. Proposed for permanent retention are master files from the security clearance database that cover high-level officials and other cases that are historically significant and records related to program management and policy development.

9. Department of State, Overseas Building Operations (N1-59-09-5, 31 items, 31 temporary items). Records relating to the construction and maintenance of overseas facilities, including policy and procedures files, trip reports, Inspector General records, budget files, roof drawings, facility evaluations, reports relating to asbestos, and other records relating to maintenance activities.

10. Department of Transportation, Federal Highway Administration (N1-406-08-2, 16 items, 14 temporary items). Records of the Office of Safety, including administrative files, budget files, cooperative agreement files, evaluation reports received from states, general correspondence, working papers, accident files, drafts of proposals, research files, and training course files. Proposed for permanent retention are interpretations of regulations and roadside hardware acceptance letters.

11. Department of Transportation, Surface Transportation Board (N1-134-08-1, 59 items, 41 temporary items). Records of the Surface Transportation Board, including news clippings, non-significant ex parte dockets, service docket files, reference files, working papers, reports review correspondence, carrier report publications, rate adjustment files, cost studies, docket working files, internal correspondence files, legislative files, congressional correspondence, decision reference files, hearing files, court files, project files, environmental assessments and impact statements, diagram maps, abandonment submissions, Federal Register citation files, designated agents files, court cases index file, practitioner files, fees refund files, recordation files, rate bureau agreements, and official tariff files. Proposed for permanent retention are such records as Board conference tapes, significant ex parte dockets, formal rail dockets, formal water carrier dockets, board member speeches, General Counsel's numbered memoranda, reports and studies, clearances for docketed and undocketed proceedings, background files for docketed and undocketed proceedings, carrier annual reports, waybill public use files and documentation, and public dockets.

12. Department of the Treasury, Office of Thrift Supervision (N1-483-08-2, 11 items, 10 temporary items). Electronic information systems used in connection with financial, budgetary, and billing activities. Also included are Web site and intranet records and electronic systems that support examination, supervision, and compliance activities. Proposed for permanent retention is a risk exposure analysis and reporting system used to create rate risk reports.

13. Environmental Protection Agency, Agency-wide (N1-412-07-62, 7 items, 7 temporary items). Appointee clearance and vetting files, Intergovernmental Personnel Act assignment files, personnel files of Public Health Service personnel temporarily assigned to the agency, and other non-mission related files. Paper copies of these files were previously approved for disposal.

14. Environmental Protection Agency, Agency-wide (N1-412-07-63, 6 items, 6 temporary items). Safety standards files, property safety inspections, protective and preventive measures report files, and industrial hygiene files, including employee exposure records and asbestos monitoring records. Paper copies of these files were previously approved for disposal.

15. Environmental Protection Agency, Agency-wide (N1-412-07-64, 4 items, 4 temporary items). Procurement and grant records, including administrative reports and data relating to procurement operations, deviation requests, and recipient and contractor debarment and suspension records. Paper copies of these files were previously approved for disposal.

16. Environmental Protection Agency, Agency-wide (N1-412-07-65, 12 items, 12 temporary items). Facilities and support services records, including guard service performance records, personal property records, motor vehicle leases, real estate project requests, real property records, and surplus real property case files. Paper copies of these files were previously approved for disposal.

17. Railroad Retirement Board, Office of Administration (N1-184-08-2, 2 items, 2 temporary items). Administrative records relating to the agency's participation in the Combined Federal Campaign.

Dated: January 15, 2009.
Michael J. Kurtz,
Assistant Archivist for Records Services—Washington, DC.

[FR Doc. E9-1374 Filed 1-21-09; 8:45 am]

BILLING CODE 7515-01-P